DEPARTMENT OF AGRICULTURE

Submission for OMB Review; Comment Request

March 22, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB Control number.

Foreign Agricultural Service

Title: Food Donation Programs (Food for Progress & Section 416(b)) and McGovern-Dole International Food for Education and Child Nutrition Program.

OMB Control Number: 0551-0035.

Summary of Collection: The U.S. Department of Agriculture's Foreign Agricultural Service (FAS) helps provide U.S. agricultural commodities to feed millions of hungry people in needy countries through direct donations and concessional programs. The Food for Progress program provides for donations of or sale of U.S. commodities to developing countries and emerging democracies to support democracy and an expansion of private enterprise. The commodities donated through Food for Progress may be used for direct feeding programs, or may be sold in the recipient country, and the proceeds used to support agricultural, economic or infrastructure development programs. Section 416(b) program provides for overseas donations of surplus commodities acquired by the Commodity Credit Corporation. Commodities are made available for donations through agreements with foreign governments, private voluntary organizations, cooperatives, and intergovernmental organizations. The McGovern-Dole International Food for Education and Child Nutrition Program helps support education, child development, and food security for some of the world's poorest children. It provides for donations of U.S. agricultural products, as well as financial and technical assistance, for school feeding and maternal and child nutrition projects in low-income, food-deficit countries that are committed to universal education. The authorities to collection information for these programs are under 7 CFR Part 1499, Foreign Donation Programs and 7 CFR Part 1599, McGovern-Dole International Food for Education and Child Nutrition Program.

Need and Use of the Information: FAS will collect information from cooperating sponsor to determine its ability to carry out a food aid program, to establish terms under which the commodities will be provided, to monitor the progress of commodity distribution, including how transportation is procured, and to evaluate both the program's success and the Cooperating Sponsor's effectiveness in meeting certain goals.

Description of Respondents: Not for-profit institutions; business or other for-profit.

Number of Respondents: 241.

Frequency of Responses: Recordkeeping; reporting: Semi-annually; quarterly.

Total Burden Hours: 50,434.

Farm Service Agency

Title: Farm Loan Programs Account Servicing Policies.

OMB Control Number: 0560-0161.

Summary of Collection: The Farm Service Agency's (FSA) Farm Loan Program (FLP) provides supervised credit in the form of loans to family farmers and ranchers to purchase land and finance agricultural production. The regulations covering this information collection request describes the policies and procedures the agency will use the service most FLP loans. These loans include Operating, Farm Ownership, Soil and Water, Softwood Timber Production, Emergency, Economic Emergency, Economic Opportunity, Recreation, and Rural Housing loans for farm service buildings. Servicing of accounts is administered in accordance with the provisions of the Consolidated Farm and Rural Development Act (CONACT) as amended by the Food Security Act of 1985, the Agriculture Credit Act of 1987, the Food Agriculture Conservation and Trade Act of 1990, the Agricultural Credit Improvement Act of 1992, and the Federal Agriculture Improvement and Reform Act of 1996.

Need and Use of the Information: The information collected will be used by FSA to service the borrower's loan account and to consider the financially distressed or delinquent borrower's request for debt restructuring including rescheduling, reamortization, consolidation, deferral, and write down. Failure to collect the information would result in borrowers not being provided with available servicing options or could result in the potential demise of their operation and the loss of security property through either voluntary or forced liquidation.

Description of Respondents: Farms; individuals or households; business or other for-profit.

Number of Respondents: 24,189.

Frequency of Responses: Reporting: On occasion.

Total Burden Hours: 14,312.

Animal and Plant Health Inspection Service

Title: Fruit from Hawaii.

OMB Control Number: 0579-0123.

Summary of Collection: The United States Department of Agriculture is responsible for preventing plant diseases or insect pests from spreading within the United States. Under the Plant Protection Act (7 U.S.C. 7701-7772), the Secretary of Agriculture, is authorized to carry out operations or measures to detect, eradicate, suppress, control, prevent, or retard the spread of plant pests new to the United States. The Animal and Plant Health Inspection Service (APHIS) regulates the interstate movement of fruits and vegetables from Hawaii to prevent the spread of Mediterranean fruit fly, the melon fly, the Oriental fruit fly, and the Malaysian fruit fly pests that occur in Hawaii and can cause millions of dollars in damage to U.S. agriculture.

Need and Use of the Information: APHIS will collect information using several forms to ensure fruits from Hawaii are free from pests and disease.

Description of Respondents: Business or other for-profit.

Number of Respondents: 300.

Frequency of Responses: Recordkeeping; reporting: On occasion.

Total Burden Hours: 327.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating those imported pest when eradication is feasible. The Plant Quarantine Act and the Federal Plant Pest Act authorizes the Department to carry out this mission. Under the authority of the Federal Seed Act of 1939, as amended, the USDA regulates the importation and interstate movement of certain agricultural and vegetable seeds. The Plant Protection & Quarantine Division of USDA's Animal & Plant Health Inspection Service (PHIS) has established a seed analysis program with Canada that allows U.S. companies that import seed for cleaning or processing to enter into compliance agreements with APHIS. This program eliminates the need for sampling shipments of Canadian-origin seed at the border, and allows certain seed importers to clean seed without the direct supervision of an APHIS inspector. APHIS will collect information using two forms.

Need and Use of the Information: APHIS will collect information to prevent the spread of insect pests and noxious weeds from entering into the United States. If the information were not collected, there would be no way of preventing noxious weeds from entering the United States.

Description of Respondents: Business or other for-profit.

Number of Respondents: 30,000.

Frequency of Responses: Recordkeeping: Reporting: On occasion.

Total Burden Hours: 11,345.

Animal and Plant Health Inspection Service

Title: Plum Pox Compensation.

OMB Control Number: 0579-0159.

Summary of Collection: Plum Pox is an extremely serious viral disease of plants that can affect many stone fruit species, including plum, peach, apricot, almond, and nectarine. The United States Department of Agriculture is responsible for preventing plant pests and noxious weeds for entering the United States; preventing the spread of pests new to the United States and eradicating those imported pests and weeds when eradication is feasible. The regulations in 7 CFR 301.74-5 permit owners of commercial stone fruit orchards and owners of fruit tree nurseries to receive compensation under certain circumstances. Owners of commercial stone fruit orchards may receive compensation for losses associated with trees destroyed to control plum pox pursuant to an emergency action notification (EAN) issued by the Animal & Plant Health Inspection Service (APHIS).

Need and Use of the Information: APHIS will collect information using form PPQ, 651 Application for Plum Pox Compensation. The data collected provides the owner's name and address, a description of the owner's property, and a certification statement that the trees removed from the owner's property were stone fruit trees from commercial fruit orchards or fruit tree nurseries. If the information were not collected, APHIS would be unable to compensate eligible grove and nursery owners for the loss of their trees.

Description of Respondents: Business or other for-profit.

Number of Respondents: 6.

Frequency of Responses: Reporting: On occasion.

Total Burden Hours: 1.

Animal and Plant Health Inspection Service

Title: Importation of Artificially Dwarfed Plants.

OMB Control Number: 0579-0176.

Summary of Collection: Under the Plant Protection Act (7 U.S.C. 7701-7772), the Secretary of Agriculture is authorized to prohibit or restrict the importation, entry or movement of plants and plant pests, to prevent the introduction of plant pests into the United States or their dissemination within the United States. Plant Protection and Quarantine (PPQ), a unit within USDA's Animal and Plant Health Inspection Service (APHIS), enforce these regulations. Artificially dwarfed plants imported into the United States must be accompanied by a phytosanitary certificate of inspection issued by a plant health official employed by the government of the country from which the plants are exported.

Need and Use of the Information: APHIS will collect information from the phytosanitary certificate to state that the plants were: (1) Grown for at least 2 years in a nursery that is registered with the government of the country of export; (2) grown in pots containing only sterile growing media; (3) grown on benches at least 50 cm above the ground; and (4) inspected at least once each year by the plant protection service of the country of export. The collected information will enable PPQ to verify that the imported plants were grown under conditions that helped keep the plants free from infestation by certain longhorned beetles and other pests. Without the information, APHIS could not verify that imported nursery stock does not present significant risk of introducing plant pests and plant diseases into the United States.

Description of Respondents: Business or other for-profit; farms; State, Local or Tribal Government; individuals or households.

Number of Respondents: 20.

Frequency of Responses: Reporting; on occasion.

Total Burden Hours: 25.

Animal and Plant Health Inspection Service

Title: National Non-Ambulatory Livestock Study.

OMB Control Number: 0579-NEW.

Summary of Collection: The United States Department of Agriculture is responsible for protecting the health of our Nation's livestock and poultry populations by preventing the introduction and dissemination of any pest or disease of livestock and for eradicating such pest and diseases from the United States when feasible. The Center for Epidemiology and Animal Health, Veterinary Services, Animal and Plant Health Inspection Service (APHIS), plans to initiate an information collection to gather data for the National Non-Ambulatory Livestock Study. The objectives of the study is to: (1) Assess the scope of the non-ambulatory livestock; (2) identify the causes that render livestock non-ambulatory; (3) examine humane treatment practices for non-ambulatory livestock; and (4) examine the extent to which non-ambulatory livestock may present handling and disposition problems for stockyards, market agencies, and dealers.

Need and Use of the Information: The collected information will be used to promulgate regulations for the humane treatment, handling, and disposition of non-ambulatory livestock as the Secretary sees fit. The information will also be used to optimize BSE surveillance.

Description of Respondents: Farms; Business or other for-profit; State, Local or Tribal Government; Federal Government.

Number of Respondents: 4,375.

Frequency of Responses: Reporting; on occasion; quarterly.

Total Burden Hours: 5,500.

National Agriculture Statistics Service

Title: Cotton Ginning Survey.

OMB Control Number: 0535-0220.

Summary of Collection: The primary function of the National Agricultural Statistics Services (NASS) is to prepare and issue state and national estimates of crop and livestock production, disposition and prices as well as specialty agricultural and environmental statistics. The Cotton Ginning Survey provides statistics concerning cotton ginning for specific dates and geographic regions and aids in forecasting cotton production, which is required under U.S.C. Title 13, section 42(a).

Need and use of the Information: The ginning data collected provides (1) all segments of the cotton industry-buyers, brokers, crushers, shippers, textile firms, and researches with exact quantities of cotton available at specific geographic locations within the U.S. on a regular basis; (2) precise statistics, especially when at least 50 percent of the forecasted cotton production has been ginned in a state; and (3) (final season ginning data is used to establish final production. If the information were collected less frequent, the cotton industry would be without county level quantities ginned that could seriously affect transportation costs and marketing strategies.

Description of Respondents: Business or other for-profit.

Number of Respondents: 920.

Frequency of Responses: Reporting: Other (biweekly Sept.-Jan.).

Total Burden Hours: 840.

Agricultural Marketing Service

Title: Farmers Market Questionnaire.

OMB Control Number: 0581-0169.

Summary of Collection: The Transportation and Marketing (T&M) Program, Agricultural Marketing Service (AMS) conducts research to find better designs, development techniques, and operating methods for modern farmer's markets under the Agency's Marketing Service Branch. Individual studies are conducted in close cooperation with local interested parties. Recommendations are made available to local decision makers interested in constructing modern farmer's markets to serve area producers and consumers. T&M researchers will survey by mail, with telephone follow-up, the managers of farmer's markets identified in the 2000 National Farmer's Market Directory. These markets represent a varied range of sizes, geographical locations, types, ownership, and structure and will provide a valid overview of farmer's markets in the United States.

Need and Use of the Information: The form, T-6 “Farmer's Market Questionnaire,” is used to collect information and will serve as a survey instrument to obtain a clearer picture of existing farmer's market structure as well as provide a measure of growth. Information such as the size of markets, operating times and days, retail and wholesale sales, management structure, and rules and regulations governing the markets are all important questions that need to be answered in the design of a new market. The information developed by this survey will support better designs, development techniques, and operating methods for modern farmers markets and outline improvements that can be applied to revitalize existing markets. If this information is not collected, the ongoing research to develop new farmer's markets must rely on limited and often anecdotal information. This narrow focus will limit the ability of research to provide effective designs and development plans for new markets where such information is not immediately available.

Description of Respondents: Not-for-profit institutions.

Number of Respondents: 3,100.

Frequency of Responses: Reporting: Biennially.

Total Burden Hours: 388.

Rural Utilities Service

Title: Environmental Policies and Procedures (7 CFR Part 1794).

OMB Control Number: 0572-0117.

Summary of Collection: In December 1998, the Rural Utilities Service (RUS) published its revised Environmental Policies and Procedures and in 2003 revisions were made to clarify policy on certain environmental review processes. The rule promulgated environmental regulations that cover all RUS Federal actions taken by RUS' electric, telecommunications, water and environmental programs. The regulation was necessary to ensure continued RUS compliance with the Council on Environmental Quality (CEQ) Regulations for Implementing the Procedural Provisions of the National Environmental Policy Act (NEPA) (40 CFR Parts 1500-1508), and certain related Federal environmental laws, statutes, regulations, and Executive Orders. RUS electric, telecommunications, water and environmental program borrowers provide environmental documentation to assure that policy contained in NEPA is followed.

Need and Use of the Information: RUS will collect information to evaluate the cost and feasibility of the proposed project and the environmental impact. If the information is not collected, the agency would not be in compliance with NEPA and CEQ regulations.

Description of Respondents: Non-for-profit institutions; business or other for-profit.

Number of respondents: 600.

Frequency of Responses: Reporting: On occasion.

Total Burden Hours: 440,200.

Animal and Plant Health Inspection Service

Title: Animal Welfare; Transportation of Animals on International Carriers.

OMB Control Number: 0579-NEW.

Summary of Collection: Under the Animal Welfare Act (AWA) (7 U.S.C. 2131 et seq.), the Secretary of Agriculture is authorized to promulgate standards and other requirements governing the humane handling, care, treatment, and transportation of certain animals by dealers, research facilities, exhibitors, and carriers and intermediate handlers. The Secretary has delegated responsibility for administering the AWA to the Administrator of the Animal and Plant Health Inspection Services (APHIS) of the U.S. Department of Agriculture. APHIS will be applying the AWA regulations and standards for the humane transportation of animals in commerce to all international carriers operating within the United States, its territories, possessions, or the District of Columbia. APHIS believes that animals being transported by international carriers should be afforded the same protection under the AWA as if domestic carriers were transporting them.

Need and Use of the Information: APHIS will collect information using APHIS form 7001, United States Interstate and International Certificate of Health Examination for Small Animals and APHIS form 7011, Application for Registration. The information and certification is necessary for carriers and intermediate handlers to properly care for and deliver the animals to destination in a speedy and humane manner. The information is also used in documenting instances of violations for possible legal action and for location facilities or persons who are evading regulations under the law. Without the information, full enforcement of the AWA would be limited or totally ineffective.

Description of Respondents: Individuals or households; not-for-profit institutions.

Number of Respondents: 20.

Frequency of Responses: Recordkeeping; reporting: On occasion.

Total Burden Hours: 175.

Animal and Plant Health Inspection Service

Title: Emerald Ash Borer.

OMB Control Number: 0579-0233.

Summary of Collection: The Animal and Plant Health Inspection Service (APHIS) is quarantining 13 counties in Michigan because of the emerald ash borer (EAB) and restricting the interstate movement of regulated articles from these quarantined areas. The EAB is a destructive wood-boring insect that attacks ash trees (Fraxinus spp., including green ash, white ash, black ash, and several horticultural varieties of ash). The insect, which is indigenous to Asia and known to occur in China, Korea, Japan, Mongolia, the Russian Far East, Taiwan, and Canada, eventually kills healthy ash trees after it bores beneath their bark and disrupts their vascular tissues. The authority for this collection can be found at CFR Part 301.53-1 through 301.53-9.

Need and Use of the Information: APHIS will collect information to prevent the artificial spread of this plant pest from infested areas in the State of Michigan to noninfested areas of the United States. If APHIS did not collect the information, the effectiveness of their EAB quarantine would be severely compromised, likely resulting in the interstate spread of this destructive (and economically damaging) agricultural pest.

Description of Respondents: Farms; Business or other for-profit; Individuals or households; State, Local or Tribal Government

Number of Respondents: 225.

Frequency of Responses: Reporting: On occasion.

Total Burden Hours: 180.

Farm Service Agency

Title: Beginning Farmer and Rancher Land Contract Guarantee Pilot Program.

OMB Control Number: 0560-0228.

Summary of Collection: Section 310 F of the consolidated Farm and Rural Development Act authorizes the Secretary to establish a pilot program to provide guarantees of loans made by private sellers of a farm or ranch on a contract land sales basis to qualified beginning farmers or ranchers. Pilot Program has been implemented in six States. The pilot program will be funded using the Guaranteed Farm Ownership loan allocation, and funds will be available for each State to guarantee up to five loans per year. Under the Pilot Program, the Farm Service Agency (FSA) will provide the seller of the land a “prompt payment” guarantee.

Need and Use of the Information: FSA will collect information using several FSA forms to evaluate and determine if the buyer and the sales transaction meet the criteria established by the Agency. Failure to collect this information may result in persons receiving benefits other than intended program beneficiaries.

Description of Respondents: Farms, Individuals or households; Business or other for-profit; Federal Government.

Number of Respondents: 460.

Frequency of Responses: Reporting: Annually.

Total Burden Hours: 1,126.

Farm Service Agency

Title: Guaranteed Farm Loan Programs.

OMB Control Number: 0560-0155.

Summary of Collection: The Consolidated Farm and Rural Development Act (CONTACT), as amended, authorizes the Secretary of Agriculture to make and service loans guaranteed by the Farm Service Agency (FSA) to eligible farmers and ranchers. The statutory authorities for the guaranteed loan program is set out in the Code of Federal Regulations, Title 7, Chapter VII, part 762. The loans made and serviced under 762 include farm operating, farm ownership, and soil and water loans. The loan applicant must be a citizen of the United States, own and operate or become the owner and operator of not larger than a family size farm and be unable to obtain sufficient credit elsewhere at reasonable rates and terms.

Need and Use of the Information: FSA will collect information using several agency forms to determine lender and loan applicant eligibility for farm loan guarantees, and to ensure that the lender protects the government's financial interests. If the information were not collected, the agency would be unable to meet the congressionally mandated mission of the guaranteed loan program.

Description of Respondents: Individuals or households; Farms Business or other for-profit; Federal Government.

Number of Respondents: 16,500.

Frequency of Responses: Reporting: Other (when applying for loans).

Total Burden Hours: 201,240.

Rural Utilities Service

Title: Broadband Pilot Grant Program.

OMB Control Number: 0572-0127.

Summary of Collection: The Rural Utilities Service has the responsibility to deploy broadband service in unserved rural areas and to provide broadband grants for purposes of delivering broadband services to rural areas. Congress has appropriated funds in FY03 and FY04 to continue this program that will promote economic development and provide enhanced educational and health care opportunities.

Need and Use of the Information: RUS will provide financial assistance in the form of grants to eligible entities to provide broadband transmission service in rural communities where such service does not currently exist. RUS will use the information to determine that funds needed to complete the project are adequate based on the amount requested.

Description of Respondents: Business or other for-profit; not-for-profit institutions; State, Local or Tribal Government.

Number of Respondents: 300.

Frequency of Responses: Reporting; On occasion.

Total Burden Hours: 48,010.

Animal and Plant Health Inspection Service

Title: Importation of Mangoes from the Philippines.

OMB Control Number: 0579-0172.

Summary of Collection: The United States Department of Agriculture is responsible for preventing plant pests and noxious weeds from entering the United States. Under the Plant Protection Act (7 U.S.C. 7711-7714), the Secretary of widely distributed throughout the United States. The regulations in “Subpart-Fruit and Vegetables” (7 CFR 319.56 through 319.56-8) allow the importation of mangoes from Guimaras Island in the Republic of the Philippines into the United States under certain conditions. The regulations require the use of box marking to indicate the origin of the fruit, phytosanitary certificate to confirmed that the fruit has been grown and treated in accordance with the regulations and a trust fund agreement between the Republic of the Philippines Department of Agriculture and the U.S. Department of Agriculture's Animal and Plant Health Inspection Service (APHIS) to cover the Agency's participation in the treatment and inspection activities in the Philippines that are required for the importation of mangoes.

Need and Use of the Information: APHIS will collect information to verify that the commodity was treated adequately with heat to eliminate the pest risk and to verify that the temperature remained at the appropriate level for the entire treatment period, thereby destroying any fruit flies present in the commodity.

Description of Respondents: Business or other for-profit.

Number of Respondents: 20.

Frequency of Responses: Reporting: On occasion.

Total Burden Hours: 40.

Sondra Blakey,
Departmental Information Collection Clearance Officer.

[FR Doc. 04-6788 Filed 3-25-04; 8:45 am]

BILLING CODE 3410-01-M